DEPARTMENT OF COMMERCE

National Oceanic and Atmospheric Administration

RIN 0648-XA894

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Red Snapper Advisory Panel (AP).

DATES: The meeting will convene at 9 a.m.-5 p.m. on Friday, January 13, 2012.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Red Snapper AP will review updated catch data and other information on the red snapper fishery provided by the Southeast Fisheries Science Center, and the recommendations from the Standing and Special Reef Fish Scientific and Statistical Committee for acceptable biological catch beginning in 2012. Using this information, the AP will provide recommendations for catch limits and targets for red snapper. The AP will also be asked to provide recommendations for issues to consider in a red snapper benchmark assessment to be conducted during 2012 and 2013. The AP will also review a draft regulatory amendment to revise the Fall red snapper recreational closed season and set the red snapper annual catch limit for 2012. The AP will also review an options paper to consider providing weekend only or weekday only openings during portions of the recreational red snapper season, or during a reopening if the season is closed prematurely.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: December 21, 2011.
Tracey L. Thompson,
Acting Director, Office of Sustainable Fisheries, National Marine Fisheries Service.

[FR Doc. 2011-33068 Filed 12-23-11; 8:45 am]

BILLING CODE 3510-22-P